DEPARTMENT OF COMMERCE

International Trade Administration

Notice of Open Town Meeting for Information Gathering on Exploring the Development of a Textile “Marker” System

November 22, 2002.

AGENCY: Department of Commerce, International Trade Administration.

ACTION: Notice of an open meeting.

SUMMARY: The International Trade Administration (ITA) will hold a public meeting on technologies under investigation for a textile “marker” system.

DATES: The meeting is scheduled for December 10, 2002, from 10:00am to 12:00pm.

ADDRESSES: The meeting will be held at the North Carolina Center for Applied Textile Technology (NCCATT), 7220 Wilkinson Boulevard, Belmont, NC. Telephone, (704) 825-3737.

FOR FURTHER INFORMATION CONTACT: Don Niewiaroski, Jr. at (202) 482-4058, Department of Commerce, 14th Street and Constitution Avenue, NW., Washington, DC 20230.

SUPPLEMENTARY INFORMATION: Directions to the NCCATT are as follows: Take Exit 27 off of I-85 South. Go left at the top of the exit ramp on Highway 273 for approximately 1/3 of a mile. Go left on Highway 74 for approximately 2/3 of a mile until you reach the NCCATT campus on your right. Proceed to the auditorium in the “new building” at 7230 Wilkinson Boulevard. From Charlotte airport follow signs to I-85 South and the directions are the same as above. For further information please contact the North Carolina Center for Applied Textile Technology at (704) 825-3737.

The meeting will be co-chaired by James C. Leonard III, Commerce Deputy Assistant Secretary for Textiles, Apparel and Consumer Goods Industries and Dr. Glenn O. Allgood, Principal Investigator, Oak Ridge National Laboratory. During the meeting the following agenda item will be discussed.

Department of Commerce (DOC)/Department of Energy (DOE) Project to Explore the Development of a Special Textile “Marker” System

DOE will make a presentation on the technologies under investigation for a textile “marker” system. DOE and DOC officials will discuss this project at the meeting, and will encourage participants to provide individual comments and information on these technologies with particular reference to: cost effectiveness; compatibility with U.S. manufacturing processes; the ability to survive foreign fabrication techniques; and compatibility with U.S. Customs processes and procedures. Discussion will include possibilities of and opportunities for plant visits by DOE personnel and other pertinent issues.

Background

On October 29, 2002 the Department of Commerce entered into an agreement with the Department of Energy's Oak Ridge Operations Office to explore the development of a special “marker” system to track the presence of U.S.-made yarns and fabrics in U.S. apparel imports.

Certain provisions of U.S. apparel import preference programs and free trade area agreements require the use of U.S. textile inputs. However, the origin of such inputs is difficult to determine and the development of a textile marker system is intended to ensure the use of U.S. fabrics and yarns in products receiving preferences.

Dated: November 22, 2002.
James C. Leonard III,
Deputy Assistant Secretary for Textiles, Apparel and Consumer Goods Industries, Department of Commerce.

[FR Doc.02-30096 Filed 11-26-02; 8:45 am]

BILLING CODE 3510-DR-S